DEPARTMENT OF DEFENSE

GENERAL SERVICES ADMINISTRATION

NATIONAL AERONAUTICS AND SPACE ADMINISTRATION

48 CFR Chapter 1

[Docket No. FAR-2021-0051, Sequence No. 5]

Federal Acquisition Regulation; Federal Acquisition Circular 2022-01; Introduction

AGENCY: Department of Defense (DoD), General Services Administration (GSA), and National Aeronautics and Space Administration (NASA).

ACTION: Summary presentation of final rules.

SUMMARY: This document summarizes the Federal Acquisition Regulation (FAR) rules agreed to by the Civilian Agency Acquisition Council and the Defense Acquisition Regulations Council (Councils) in this Federal Acquisition Circular (FAC) 2022-01. A companion document, the Small Entity Compliance Guide (SECG), follows this FAC.

DATES: For effective dates see the separate documents, which follow.

ADDRESSES: The FAC, including the SECG, is available via the internet at https://www.regulations.gov.

FOR FURTHER INFORMATION CONTACT: The analyst whose name appears in the table below in relation to the FAR case. For information pertaining to status or publication schedules, contact the Regulatory Secretariat Division at 202-501-4755 or GSARegSec@gsa.gov.

Rules Listed in FAC 2022-01
Item | Subject | FAR case | Analyst
I | Revision of Definition of “Commercial Item” | 2018-018 | Delgado.
II | Consolidation and Substantial Bundling | 2019-003 | Bowman.
III | Maximum Award Price for Certain Sole Source Manufacturing Contracts | 2021-007 | Jackson.

SUPPLEMENTARY INFORMATION: Summaries for each FAR rule follow. For the actual revisions and/or amendments made by these FAR rules, refer to the specific item numbers and subjects set forth in the documents following these item summaries. FAC 2022-01 amends the FAR as follows:

Item I—Revision of Definition of “Commercial Item” (FAR Case 2018-018)

This final rule removes the definition of “commercial item” and replaces it with the definitions of “commercial product” and “commercial service”. The rule makes numerous conforming changes throughout the FAR. The rule implements section 836 of the John S. McCain National Defense Authorization Act for Fiscal Year 2019 (Pub. L. 115-232). This final rule will not have a significant economic impact on a substantial number of small entities.

Item II—Consolidation and Substantial Bundling (FAR Case 2019-003)

This final rule amends the FAR to implement section 863 of the National Defense Authorization Act for Fiscal Year 2016, as implemented in the Small Business Administration (SBA) final rule published at 84 FR 65647 on November 29, 2019. Section 863 requires publication of public notices of determinations for consolidation and substantial bundling of contract requirements. Specifically, section 863 requires the head of an agency to publish a notice on a public website within 7 days of making the determination that an acquisition plan involves a substantial bundling of contract requirements. Section 863 also requires the Senior Procurement Executive or Chief Acquisition Officer to publish a notice on a public website that consolidation of contract requirements is necessary and justified. In both cases, the agency may not issue the solicitation any earlier than 7 days after publication of the notices. The agency must also publish the justification along with the solicitation.

Item III—Maximum Award Price for Certain Sole Source Manufacturing Contracts (FAR Case 2021-007)

This final rule amends the FAR to implement section 864 of the William M. (Mac) Thornberry National Defense Authorization Act for Fiscal Year 2021 (Pub. L. 116-283, January 1, 2021). Section 864 amends the Small Business Act to modify the maximum award price for manufacturing contracts to $7 million for 8(a) program participants, Women-Owned Small Business (WOSB) program participants, Historically Underutilized Business Zone (HUBZone) small business concerns, and Service-Disabled Veteran-Owned Small Business (SDVOSB) concerns.

William F. Clark,
Director, Office of Government-wide Acquisition Policy, Office of Acquisition Policy, Office of Government-wide Policy.

Federal Acquisition Circular (FAC) 2022-01 is issued under the authority of the Secretary of Defense, the Administrator of General Services, and the Administrator of National Aeronautics and Space Administration.

Unless otherwise specified, all Federal Acquisition Regulation (FAR) and other directive material contained in FAC 2022-01 is effective November 4, 2021 except for Items I through III, which are effective December 6, 2021.

John M. Tenaglia,

Principal Director, Defense Pricing and Contracting, Department of Defense.

Jeffrey A. Koses,

Senior Procurement Executive/Deputy CAO, Office of Acquisition Policy, U.S. General Services Administration.

Karla Smith Jackson,

Assistant Administrator for Procurement, National Aeronautics and Space Administration.

[FR Doc. 2021-22143 Filed 11-3-21; 8:45 am]

BILLING CODE 6820-EP-P